FEDERAL COMMUNICATIONS COMMISSION

47 CFR Part 1

[WC Docket No. 17-84, WT Docket No. 17-79; FCC 18-111]

Accelerating Wireline Broadband Deployment by Removing Barriers to Infrastructure Investment

AGENCY: Federal Communications Commission.

ACTION: Final rule; announcement of effective date.

SUMMARY: In this document, the Commission announces that the Office of Management and Budget (OMB) has approved, for a period of three years, the information collection associated with the Commission's revised pole attachment access rules. This document is consistent with Accelerating Wireline Broadband Deployment by Removing Barriers to Infrastructure Investment, Third Report and Order and Declaratory Ruling, FCC 18-111, which stated that the Commission would publish a document in the Federal Register announcing the effective date of the revised rules.

DATES: The amendments to 47 CFR 1.1411, 1.1412, and 1.1415 published at 83 FR 46812, September 14, 2018, are effective May 20, 2019.

FOR FURTHER INFORMATION CONTACT: Michael Ray, Attorney Advisor, Wireline Competition Bureau, at (202) 418-0357, or by email at Michael.Ray@fcc.gov. For additional information concerning the Paperwork Reduction Act information collection requirements, contact Nicole Ongele at (202) 418-2991 or nicole.ongele@fcc.gov.

SUPPLEMENTARY INFORMATION: This document announces that, on April 15, 2019, OMB approved, for a period of three years, the information collection requirements relating to the pole attachment access rules contained in the Commission's Accelerating Wireline Broadband Deployment by Removing Barriers to Infrastructure Investment, Third Report and Order and Declaratory Ruling, FCC 18-111, published at 83 FR 46812, September 14, 2018. The OMB Control Number is 3060-1151.

The Commission publishes this document as an announcement of the effective date of the rules. If you have any comments on the burden estimates listed below, or how the Commission can improve the collections and reduce any burdens caused thereby, please contact Nicole Ongele, Federal Communications Commission, Room 1-A620, 445 12th Street SW, Washington, DC 20554. Please include the OMB Control Number, 3060-1151, in your correspondence. The Commission also will accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on April 15, 2019 for the information collection requirements contained in the modifications to the Commission's pole attachment access rules in 47 CFR 1.1411, 1.1412, and 1.1415.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1151.

The foregoing notice is required by the Paperwork Reduction Act of 1995, Public Law 104-13, October 1, 1995, and 44 U.S.C. 3507.

The total annual reporting burdens and costs for the affected respondents are as follows:

OMB Control Number: 3060-1151.

OMB Approval Date: April 15, 2019.

OMB Expiration Date: April 30, 2022.

Title: Sections 1.1411, 1.1412, 1.1413, and 1.1415 Pole Attachment Access Requirements.

Form Number: N/A.

Respondents: Business or other for-profit entities.

Number of Respondents and Responses: 1,142 respondents; 145,538 responses.

Estimated Time per Response: 0.5-6 hours.

Frequency of Response: On occasion reporting requirement, recordkeeping requirement, and third party disclosure requirement.

Obligation to Respond: Required to obtain or retain benefits. Statutory authority for this information collection is contained in 47 U.S.C. 224.

Total Annual Burden: 554,410 hours.

Total Annual Cost: $6,750,000.

Nature and Extent of Confidentiality: No questions of a confidential nature are asked. However, respondents may request that materials or information submitted to the Commission in a complaint proceeding be withheld from public inspection under 47 CFR 0.459.

Privacy Act Impact Assessment: No impact(s).

Needs and Uses: The Commission received OMB approval for a revision to an existing information collection. OMB Collection No. 3060-1151, among other things, tracks the burdens associated with cable and telecommunications attachers gaining access to utility poles for pole attachments. In Accelerating Wireline Broadband Deployment by Removing Barriers to Infrastructure Investment, Third Report and Order and Declaratory Ruling, FCC 18-111, adopted a new framework for the vast majority of pole attachments governed by federal law by instituting a “one-touch make-ready” (OTMR) regime, in which a new attacher may elect to perform all simple work to prepare a pole for new wireline attachments in the communications space. This new framework includes safeguards to promote coordination among parties and ensures that new attachers perform the work safely and reliably. The Commission retained the existing multi-party pole attachment process for other new attachments that are complex or above the communications space of a pole, but made significant modifications to speed deployment, promote accurate billing, expand the use of self-help for new attachers when attachment deadlines are missed, and reduce the likelihood of coordination failures that lead to unwarranted delays. The Commission further revised the pole attachment rules by codifying and redefining Commission precedent that requires utilities to allow attachers to “overlash” existing wires, thus maximizing the usable space on the pole. Utilities and pole attachers will use the information collected under this revision to 47 CFR 1.1411 to implement and coordinate both OTMR and non-OTMR pole attachments. Pole attachers will use the information collected under this revision to 47 CFR 1.1412 to select utility-approved contractors to perform pole attachment-related work, when required. Pole attachers and utilities will use the information collected under this revision to 47 CFR 1.1415 to inform utilities, when required, of an impending overlash of an attachment on a utility's pole and to coordinate inspection of a performed overlash.

Federal Communications Commission.
Katura Jackson,
Federal Register Liaison, Office of the Secretary.

[FR Doc. 2019-07950 Filed 4-18-19; 8:45 am]

BILLING CODE 6712-01-P